DEPARTMENT OF ENERGY

Federal Energy Regulatory Commission

[Project No. 2782-006 Utah]

Parowan City; Notice of Availability of Draft Environmental Assessment

February 10, 2003.

In accordance with the National Environmental Policy Act of 1969 and the Federal Energy Regulatory Commission's (Commission) regulations, 18 CFR part 380 (Order No. 486, 52 FR 47897), the Office of Energy Projects has reviewed the application for license for the Red Creek Hydroelectric Project located on Red Creek, in Iron County, Utah, and has prepared a draft Environmental Assessment (EA) for the project. The project occupies 19.06 acres of United States lands administered by the Bureau of Land Management.

The draft EA contains Commission staff's analysis of the potential environmental impacts of the project and concludes that licensing the project, with appropriate environmental protective measures, would not constitute a major federal action that would significantly affect the quality of the human environment.

A copy of the draft EA is available for review at the Commission in the Public Reference Room or may be viewed on the Commission's Web site at http://www.ferc.gov using the “FERRIS” link. Enter the docket number excluding the last three digits in the docket number field to access the document. For assistance contact FERC Online Support at FERCOnlineSupport@ferc.gov or toll-free at (866) 208-3676, or for TTY, (202) 502-8659.

Any comments on this draft EA should be filed within 30 days from the date of this notice and should be addressed to: Magalie R. Salas, Secretary, Federal Energy Regulatory Commission, 888 First Street, NE., Washington, DC 20426. Please affix Project No. 2782-006 to all comments. Comments may be filed electronically via the Internet in lieu of paper. The Commission strongly encourages electronic filings. See 18 CFR 385.2001(a)(1)(iii) and the instructions on the Commission's web site http://www.ferc.gov under the “e-Filing” link.

For further information, contact Steve Hocking at (202) 502-8753 or steve.hocking@ferc.gov.

Magalie R. Salas,
Secretary.

[FR Doc. 03-3723 Filed 2-13-03; 8:45 am]

BILLING CODE 6717-01-P